DEPARTMENT OF COMMERCE

National Oceanic and Atmospheric Administration

50 CFR Part 660

[Docket No. 010502110-1110-01; I.D. 091001C]

Fisheries Off West Coast States and in the Western Pacific; West Coast Salmon Fisheries; Inseason Adjustment for the Commercial Salmon Season from Queets River, WA, to Cape Falcon, OR

AGENCY: National Marine Fisheries Service (NMFS), National Oceanic and Atmospheric Administration (NOAA), Commerce.

ACTION: Inseason adjustment to the 2001 annual management measures for the ocean salmon fishery; request for comments.

SUMMARY: NMFS announces a modification of the open periods and limited retention regulation for the commercial fishery from the Queets River, WA, to Cape Falcon. The fishing period opened August 17, 2001, and closed at midnight on August 27, 2001, with a limit of 150 chinook per boat for the entire open period. The fishery was assessed on August 29, 2001, and any further openings announced as needed. This action is necessary to conform to the 2001 annual management measures for ocean salmon fisheries.

DATES: Adjustment in the area from Queets River, WA, to Cape Falcon, OR — effective 0001 hours local time (l.t.), August 17, 2001, through 2359 hours l.t. August 27, 2001. Comments will be accepted through October 12, 2001.

ADDRESSES: Submit comments to D. Robert Lohn, Administrator, Northwest Region (Regional Administrator), NMFS, 7600 Sand Point Way NE., Seattle, WA 98115-0070; fax 206-526-6376; or Rod McInnis, Acting Regional Administrator, Southwest Region, NMFS, 501 West Ocean Blvd., Suite 4200, Long Beach, CA 90802-4213; fax 562-980-4018. Comments will not be accepted if submitted via e-mail or the Internet. Information relevant to this document is available for public review during business hours at the Office of the Regional Administrator, Northwest Region, NMFS.

FOR FURTHER INFORMATION CONTACT: Christopher Wright, 206-526-6140, Northwest Region, NMFS, NOAA.

SUPPLEMENTARY INFORMATION: The Northwest Regional Administrator, NMFS (Regional Administrator) has determined that the commercial fishery from the Queets River, WA, to Cape Falcon, OR, should reopen for 11 days, starting August 17, 2001, and closing at midnight on August 27, 2001, with a limit of 150 chinook for this open period per boat. Modification of fishing seasons is authorized by regulations at 50 CFR 660.409 (b)(1)(i). Modification of the species that may be caught and landed during specific seasons and the establishment or modification of limited retention regulations is authorized by regulations at 50 CFR 660.409 (b)(1)(ii).

In the 2001 annual management measures for ocean salmon fisheries (66 FR 23185, May 8, 2001), NMFS announced that the commercial fishery for all salmon in the area from the Queets River, WA to Cape Falcon, OR would open the earlier of the day following closure of the U.S.-Canada Border to Leadbetter Pt. July troll fishery or July 28, 2001, but not before July 20, 2001, through the earliest of September 30 or the overall chinook quota (preseason 6,000-chinook guideline) or a 63,000 marked coho guideline. The fishery was scheduled to run continuously until 75 percent of either guideline was caught; it would then revert to a cycle of 4 days open/3 days closed. The 2001 annual management measures for ocean salmon fisheries also stated that trip limits, gear restrictions, and guidelines would be instituted or adjusted inseason.

The U.S.-Canada Border to Leadbetter Pt. July troll fishery closed on July 9, 2001, at 2359 hours l.t.(66 FR 38573, July 25, 2001). The commercial fishery for all salmon from Queets River, WA to Cape Falcon, OR therefore started July 20, 2001.

Because of a higher than expected chinook/coho catch ratio, the commercial fishery from the Queets River, WA, to Cape Falcon, OR began July 20, 2001, under a cycle of 4 days open/3 days closed, and with a limit of 65 chinook per open period per boat (66 FR 45634, August 29, 2001). The modifications to the fishing season were adopted to avoid closing the fishery early due to reaching the chinook quota, thus precluding the opportunity to catch available marked hatchery coho salmon.

Evaluation of the catch rates during the first open period indicated that no further season modifications were necessary for the second 4 day opening (July 27-30, 2001).

Because the availability of coho salmon was increasing, the next fishing season opening was lengthened to 10 days, reopening August 3 and closing at midnight on August 12, 2001, with a limit of 100 chinook for the open period per boat (66 FR 46403, September 5, 2001).

On August 14, 2001, after the third open period, the Regional Administrator consulted with representatives of the Pacific Fishery Management Council, Washington Department of Fish and Wildlife (WDFW), and Oregon Department of Fish and Wildlife (ODFW) by conference call. The chinook/coho catch rates and effort data indicated that the availability of coho was increasing in the area while the availability of chinook was decreasing. The WDFW and ODFW recommended, and the Regional Administrator concurred, that the season would reopen August 17, 2001, for 11 days and close at midnight on August 27, 2001, with a limit of 150 chinook per boat for the entire open period. All other restrictions that apply to this fishery remain in effect as announced in the 2001 annual management measures for ocean salmon fisheries and subsequent inseason actions. A conference call with all the parties involved was scheduled for August 29, 2001, to assess the catch information and determine the structure for the next open period.

The Regional Administrator has determined that the best available information on August 14, 2001, indicated that the catch and effort data, and projections, supported the commercial fishery season modifications recommended by WDFW and ODFW. WDFW and ODFW manage the fisheries in state waters of Washington and Oregon, respectively, adjacent to the areas of the exclusive economic zone in accordance with these Federal actions. As provided by the inseason notice procedures of 50 CFR 660.411, actual notice to fishermen of the adjustments in the area from Queets River, WA to Cape Falcon, OR effective 0001 hours l.t., August 17, 2001, was given prior to the effective date by telephone hotline number 206-526-6667 and 800-662-9825, and by U.S. Coast Guard Notice to Mariners broadcasts on Channel 16 VHF-FM and 2182 kHz.

The Assistant Administrator for Fisheries, NOAA), finds for the following reasons that good cause existed for this notification to be issued without affording a prior opportunity for public comment under 5 U.S.C. 553(b)(3)(B), and delaying the effectiveness of this rule for 30 days under 5 U.S.C. 553 (d)(3), because such notification and delay would be impracticable and contrary to the public interest. As previously noted, actual notice of this action was provided to fishermen through telephone hotline and radio notification. There was insufficient time for publication of a Federal Register action and to take comments between the time the data were provided and the time this action needed to be taken in order to comply with the requirements of the annual management measures for ocean salmon fisheries (66 FR 23185, May 8, 2001) and the Pacific Coast Salmon Plan. Delay in the effectiveness of this rule would not allow fishermen appropriately controlled access to the available fish at the time they were available.

This action does not apply to other fisheries that may be operating in other areas.

Classification

This action is authorized by 50 CFR 660.409 and 660.411 and is exempt from review under Executive Order 12866.

Authority: 16 U.S.C. 1801 et seq.

Dated: September 21, 2001.
Bruce C. Morehead
Acting Director, Office of Sustainable Fisheries, National Marine Fisheries Service.

[FR Doc. 01-24221 Filed 9-26-01; 8:45 am]

BILLING CODE 3510-22-S